FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 23, 2018.

A. Federal Reserve Bank of Chicago (Colette A. Fried, Assistant Vice President) 230 South LaSalle Street, Chicago, Illinois 60690-1414:

1. Ronald L. Hansen, Durant, Iowa, individually and as a group acting in concert with Thomas O. Hansen Living Trust, Thomas O. Hansen, Trustee, both of Enoch, Utah and the Hansen Grandchildren's Trust, Durant, Iowa, Ronald L. Hansen and Thomas O. Hansen, co-trustees; to acquire shares of Liberty Bancorporation, Durant, Iowa and thereby indirectly acquire Liberty Trust and Savings Bank, Durant, Iowa.

B. Federal Reserve Bank of Kansas City (Dennis Denney, Assistant Vice President) 1 Memorial Drive, Kansas City, Missouri 64198-0001:

1. Diane Athey, Enid, Oklahoma, individually and as co-trustee of several trusts; the Linda Ann Athey Non-Exempt QTip Trust and the Linda Ann Athey GST Exemption Q-Tip Trust, both of Enid, Oklahoma; for approval as members of the Athey Control Group; to acquire shares of Security Financial Services Corporation, and thereby acquire shares of Security National Bank, both of Enid, Oklahoma.

Board of Governors of the Federal Reserve System, May 4, 2018.
Yao-Chin Chao,
Assistant Secretary of the Board.

[FR Doc. 2018-09886 Filed 5-8-18; 8:45 am]

BILLING CODE P